DEPARTMENT OF HOMELAND SECURITY

Coast Guard

33 CFR Parts 100 and 165

[Docket No. USCG-2011-0551]

Special Local Regulation and Safety Zone; America's Cup Sailing Events, San Francisco, CA

AGENCY: Coast Guard, DHS.

ACTION: Temporary final rule; notice of calendar availability.

SUMMARY: The Coast Guard announces the availability of the 2013 program calendar for the on-water activities associated with the “Louis Vuitton Cup, Red Bull Youth America's Cup and the 34th America's Cup” regatta scheduled from July 4th to September 23rd, 2013 on the waters of San Francisco Bay adjacent to the City of San Francisco waterfront in the vicinity of the Golden Gate Bridge and Alcatraz Island.

DATES: Effective June 3, 2013.

ADDRESSES: Documents indicated in this preamble as being available in the docket are part of docket USCG-2011-0551 and are available online by going to http://www.regulations.gov, inserting USCG-2011-0551 in the “Keyword” box, and then clicking “Search.” They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this notice, call or email Commander Aaron Lubrano, Coast Guard Sector San Francisco, U.S. Coast Guard; telephone (415) 399-3446, email Aaron.C.Lubrano@uscg.mil. If you have questions on viewing or submitting material to the docket, call Barbara Hairston, Program Manager, Docket Operations, telephone (202) 366-9826.

SUPPLEMENTARY INFORMATION:

Background and Purpose

The Coast Guard, on July 17, 2012, published a special local regulation and a safety zone for the sailing regattas being conducted on the waters of San Francisco Bay associated with the 34th America's Cup sailing events taking place adjacent to the City of San Francisco waterfront in the vicinity of the Golden Gate Bridge and Alcatraz Island. (77 FR 41902) The special local regulation and safety zone regulate the on-water activities associated with the “Louis Vuitton Cup, Red Bull Youth America's Cup and the 34th America's Cup” regatta scheduled for July 4th to September 23rd, 2013, which will temporarily restrict vessel traffic in a portion of the San Francisco Bay, prohibit vessels not participating in the America's Cup sailing events from entering the designated race area, and create a temporary safety zone around racing vessels.

This document announces the availability of the 2013 program calendar referenced in the rulemaking published in association with the “Louis Vuitton Cup, Red Bull Youth America's Cup and the 34th America's Cup” regattas. This program lists the scheduled race dates that the rule will be enforced for the event programming.

This document is issued under the authority of 5 U.S.C. 552(a), 33 U.S.C. 1233, and 33 CFR 1.05-1.

Dated: May 7, 2013.
Gregory G. Stump,
Captain, U.S. Coast Guard, Captain of the Port San Francisco.

[FR Doc. 2013-12998 Filed 5-31-13; 8:45 am]

BILLING CODE 9110-04-P